DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Association of American Railroads

[Waiver Petition Docket Number FRA-2005-21613]

FRA granted waiver Docket Number FRA-2005-21613 to the Association of American Railroads (AAR) on December 5, 2005, establishing an extensive testing and inspection program to determine extended clean, repair and test intervals for air brake valves and related components as required by the Railroad Locomotive Safety Standards per 49 CFR 229.27 Annual tests and § 229.29 Biannual tests. Eighteen (18) separate groups of locomotives were identified for investigation in the waiver approval letter. This waiver has expired and AAR's request is to extend the waiver for another 5 years, as provided for in condition 12 of the original approval letter. As part of this request for extension, AAR has also requested that three Wabtec Railway Electronics (WRE) air brake system models (EPIC, EPIC-II, and EPIC 3102D2) be combined into one testing category, thereby reducing the number of locomotive groups that must be investigated.

In support of this petition, AAR says that this extension will be utilized to collect additional data sufficient to determine appropriate test and inspection intervals for electronic air brake equipment. They have also submitted information from WRE supporting combining EPIC 3102D2 and EPIC II models into one group, stating that they have commonality of pneumatic components and electronic controls.

Electronic airbrake systems began to be introduced in the early 1990s. Due to the clean operation of these systems, the brake manufacturers applied for and were granted industry wide waivers permitting the clean, repair and test intervals under 49 CFR 229.27 and 229.29, to be extended to 5 years. Waiver Docket Number FRA-2000-7367 (formerly H-95-3), applies to electronic brake systems manufactured by New York Air Brake Corporation (NYAB) and Waiver Docket Number FRA-2002-13397 (formerly H-92-3) applies to electronic air brake systems manufactured by Wabtec Railway Electronics.

The successful performance of the electronic air brake systems out to 5 years led the CSX Transportation, Inc. (CSXT) to apply for a further extension for NYAB electronic air brake systems. An extensive test and inspection program under waiver Docket Number FRA-1999-6252 led to further extension of the airbrake servicing interval for the subject CSXT locomotives. The joint FRA-industry-labor committee approach to performing waiver evaluations was also validated by the experience on CSXT.

Based largely on the success of CSXT clean, repair, and test interval extension program, AAR applied for and was granted a waiver establishing a similar program for many groups of locomotives owned and operated by their member railroads. Conditional approval of waiver Docket Number FRA-2005-21613 established the terms under which the relief granted to CSXT could be extended to other AAR member railroads and established a means of evaluating 18 groups of locomotives for potential increases in electronic airbrake clean, repair and test intervals. The groups of locomotives are based on locomotive manufacturer, air brake manufacturer, manufacturer's system model, and whether or not the locomotives are equipped with an air dryer. The process for evaluating groups of locomotives was based on the establishment of the same type of test and inspection program as had been used on CSXT for each group of locomotives identified in the approval letter.

In the 5 years that this waiver has been in effect, several joint committees including representatives of FRA, railroads, labor organizations (both operating and maintaining crafts), locomotive manufacturers, airbrake manufacturers, and others have met repeatedly to evaluate the condition of the electronic air brake equipment on various groups of locomotives at ages beyond the 5-year clean, repair and test cycle previously approved. The BNSF Railway (BNSF) has convened a joint waiver committee to evaluate GE and EMD locomotives equipped with NYAB CCB-2 air brakes without an air dryer. Interim results at the 7 years of service mark have shown the air brake system condition to be substantially the same as for similar CSXT locomotives which are air dryer equipped. Tests, teardowns and inspections of WRE Fastbrake systems have recently begun on the Union Pacific Railroad (UP) and CSXT.

Some of the locomotive groups being studied have not yet reached the clean, repair and test cycle time limit and the committees will continue to meet if this extension is granted. Certain other combinations of equipment have not yet passed beyond the 5-year age covered under the earlier waivers so committees to cover these groups are yet to be formed.

In addition to the committee work being done, Norfolk Southern, UP, Amtrak, and Canadian National have submitted the proper documentation and have been individually approved for the same relief granted to CSXT based on the established similarity of their locomotives and electronic airbrake systems to those evaluated on CSXT.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2005-21613) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on February 4, 2011.
Robert C. Lauby,
Deputy Associate Administrator for Regulatory and Legislative Operations.

[FR Doc. 2011-2921 Filed 2-9-11; 8:45 am]

BILLING CODE 4910-06-P